NATIONAL SCIENCE FOUNDATION

[Docket No. NSF-2025-OGC-0003]

Privacy Act of 1974; System of Records

AGENCY: U.S. National Science Foundation.

ACTION: Notice of Modified Systems of Records.

SUMMARY: The U.S. National Science Foundation (NSF) is amending the routine uses for two existing systems of records: NSF-13, Fellowship Payroll, and NSF-65, NSF Electronic Payment File. NSF is amending a routine use to both systems of records to cover disclosure of information to the U.S. Department of Treasury's Do Not Pay system for the purposes of identifying improper payments. NSF is also making updates and clarifying edits, as well as non-substantive formatting changes to both systems of records.

DATES: The routine uses described in this notice will take effect on January 5, 2026, unless modified by a subsequent notice to incorporate comments received from the public. Submit comments on or before January 5, 2026.

ADDRESSES: You may submit comments, identified by docket number “NSF-2025-OGC-0003” by any one of the following methods:

• Federal eRulemaking Portal: https://www.regulations.gov. Follow the instructions for submitting comments.

• Email: Tom Boger, Acting Senior Agency Official for Privacy (SAOP), NSF, privacy@nsf.gov. Include “NSF-2025-OGC-0003” in the subject line of the message.

Instructions: NSF will post all in-scope comments on the NSF's website (https://www.nsf.gov). All comments submitted in response to this Notice will become a matter of public record, including any personally identifiable information (PII) provided. Therefore, you should submit only information that you wish to make publicly available.

FOR FURTHER INFORMATION CONTACT: Suzanne H. Plimpton, Reports Clearance Officer, National Science Foundation, 2415 Eisenhower Avenue, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: NSF-13, Fellowship Payroll, contains records about fellows under certain NSF fellowship programs being paid directly by the government. NSF-65, NSF Electronic Payment File, contains records about individuals who receive electronic payment from NSF for goods or services. NSF is proposing to amend a routine use applicable to both of these systems to expressly provide for disclosure of information to the U.S. Department of Treasury's Do Not Pay Working System for the purposes of identifying, preventing, or recouping improper payments of Federal funds. The Do Not Pay Initiative, 31 U.S.C. 3354, includes multiple resources to help the Federal Government, and certain State agencies, review payment and award eligibility for purposes of identifying and preventing improper payments. NSF is proposing these amendments to ensure compliance with Executive Order 14249 (Mar. 25, 2025), and in accordance with guidance from the Office of Management and Budget (OMB) Memorandum M-25-32 (Aug. 20, 2025). The updated routine uses are compatible with the purpose of the original collection of the information.

In NSF-13, NSF is modifying the Authorities section to remove references to guidance documents and to add the following to the list of authorities relevant to the system: the Debt Collection Improvement Act of 1996 and the Payment Integrity Information Act of 2019.

In NSF-65, NSF is modifying the list of categories of individuals covered by the system to include individual grantees or individuals who receive payments from NSF pursuant to a grant. This change clarifies that information about grantees needed to make payment is also contained in this system of records. NSF is also modifying the Authorities section of NSF-65 to include the Payment Integrity Information Act of 2019, and 31 U.S.C. 7701, regarding Taxpayer Identifying Numbers. NSF is also modifying the purpose statement in NSF-65 to expressly state that the purpose includes making appropriate electronic payments.

In addition, NSF is making non-substantive formatting changes to the systems of records to align with the requirements of OMB Circular A-108 and for consistency with other NSF SORNs.

Dated: December 3, 2025.
Thomas A. Boger,
Acting Senior Agency Official for Privacy, National Science Foundation.

NSF-13

SYSTEM NAME AND NUMBER:

Fellowship Payroll, NSF-13.

SECURITY CLASSIFICATION:

Unclassified.

SYSTEM LOCATION:

National Science Foundation (NSF) headquarters, Virginia.

SYSTEM MANAGER(S):

Director, Division of Financial Management, NSF headquarters, Virginia.

AUTHORITY FOR MAINTENANCE OF THE SYSTEM:

42 U.S.C. 1861; the Debt Collection Improvement Act of 1996, Public Law 104-134, and the Payment Integrity Information Act of 2019, Public Law 116-117.

PURPOSE(S) OF THE SYSTEM:

This system enables the NSF to maintain data regarding the payment of fellowship payroll in a single location and ensures that appropriate payments are made.

CATEGORIES OF INDIVIDUALS COVERED BY THE SYSTEM:

Individuals participating in certain NSF Fellowship Programs being paid directly by the federal government (Fellows).

CATEGORIES OF RECORDS IN THE SYSTEM:

Copies of the fellowship award letter, acceptance form, starting certificates, and records of stipend payments.

RECORD SOURCE CATEGORIES:

Information is obtained from Fellows.

ROUTINE USES OF RECORDS MAINTAINED IN THE SYSTEM, INCLUDING CATEGORIES OF USERS AND PURPOSES OF SUCH USES:

The following NSF standard routine uses apply:

1. Members of Congress. Information from a system may be disclosed to congressional offices in response to inquiries from the congressional offices made at the request of the individual to whom the record pertains.

2. Freedom of Information Act/Privacy Act Compliance. Information from a system may be disclosed to the Department of Justice or the Office of Management and Budget in order to obtain advice regarding NSF's obligations under the Freedom of Information Act and the Privacy Act.

3. Counsel. Information from a system may be disclosed to NSF's legal representatives, including the Department of Justice and other outside counsel, where the agency is a party in litigation or has an interest in litigation and the information is relevant and necessary to such litigation, including when any of the following is a party to the litigation or has an interest in such litigation: (a) NSF, or any component thereof; (b) any NSF employee in his or her official capacity; (c) any NSF employee in his or her individual capacity, where the Department of Justice has agreed to, or is considering a request to, represent the employee; or (d) the United States, where NSF determines that litigation is likely to affect the agency or any of its components.

4. National Archives, General Services Administration. Information from a system may be disclosed to representatives of the General Services Administration and the National Archives and Records Administration (NARA) during the course of records management inspections conducted under the authority of 44 U.S.C. 2904 and 2906.

5. Response to an Actual or Suspected Compromise or Breach of Personally Identifiable Information. NSF may disclose information from the system to appropriate agencies, entities, and persons when: (1) NSF suspects or has confirmed that there has been a breach of the system of records; (2) NSF has determined that as a result of the suspected or confirmed breach there is a risk of harm to individuals; NSF (including its information systems, programs, and operations); the Federal Government, or national security; and (3) the disclosure made to such agencies, entities, and persons is reasonably necessary to assist in connection with NSF efforts to respond to the suspected or confirmed breach or to prevent, minimize, or remedy such harm. Furthermore, NSF may disclose information from the system to another Federal agency or Federal entity, when NSF determines that information from this system of records is reasonably necessary to assist the recipient agency or entity in: (1) Responding to a suspected or confirmed breach; or (2) preventing, minimizing, or remedying the risk of harm to individuals, the recipient agency or entity (including its information systems, programs, and operations), the Federal Government, or national security, resulting from a suspected or confirmed breach.

6. Courts. Information from a system may be disclosed to the Department of Justice or other agencies in the event of a pending court or formal administrative proceeding, when the information is relevant and necessary to that proceeding, for the purpose of representing the government, or in the course of presenting evidence, or the information may be produced to parties or counsel involved in the proceeding in the course of pre-trial discovery.

7. Contractors. Information from a system may be disclosed to contractors, agents, experts, consultants, or others performing work on a contract, service, cooperative agreement, job, or other activity for NSF and who have a need to access the information in the performance of their duties or activities for NSF.

8. Audit. Information from a system may be disclosed to government agencies and other entities authorized to perform audits, including financial and other audits, of the agency and its activities.

9. Law Enforcement. Information from a system may be disclosed, where the information indicates a violation or potential violation of civil or criminal law, including any rule, regulation or order issued pursuant thereto, to appropriate Federal, State, or local agencies responsible for investigating, prosecuting, enforcing, or implementing such statute, rule, regulation, or order.

10. Disclosure When Requesting Information. Information from a system may be disclosed to Federal, State, or local agencies which maintain civil, criminal, or other relevant enforcement information or other pertinent information, such as current licenses, if necessary, to obtain information relevant to an agency decision concerning the hiring or retention of an employee, the issuance of a security clearance, the letting of a contract, or the issuance of a license, grant, or other benefit.

11. To the news media and the public when: (1) A matter has become public knowledge, (2) the NSF Office of the Director determines that disclosure is necessary to preserve confidence in the integrity of NSF or is necessary to demonstrate the accountability of NSF's officers, employees, or individuals covered by this system, or (3) the Office of the Director determines that there exists a legitimate public interest in the disclosure of the information, except to the extent that the Office of the Director determines in any of these situations that disclosure of specific information in the context of a particular case would constitute an unwarranted invasion of personal privacy.

In addition, information may be disclosed:

12. To the U.S. Department of the Treasury for the purpose of issuing the payment directly to the financial account of the payee.

13. To the U.S. Department of the Treasury when disclosure of the information is relevant to review payment and award eligibility through the Do Not Pay Working System for the purposes of identifying, preventing, or recouping improper payments to an applicant for, or recipient of, Federal funds, including funds disbursed by a state (meaning a state of the United States, the District of Columbia, a territory or possession of the United States, or a federally-recognized Indian tribe) in a state-administered, federally-funded program.

14. To financial institutions for the purpose of direct deposit.

POLICIES AND PRACTICES FOR STORAGE OF RECORDS:

Records are stored in paper and/or on electronic digital media.

POLICIES and PRACTICES FOR RETRIEVAL OF RECORDS:

Records are retrieved alphabetically by last name of Fellow, supplier number, or award number.

POLICIES AND PRACTICES FOR RETENTION AND DISPOSAL OF RECORDS:

Records are maintained and disposed of in accordance with National Archives and Records Administration (NARA) approved records schedules.

ADMINISTRATIVE, TECHNICAL, AND PHYSICAL SAFEGUARDS:

Records are protected by administrative, technical, and physical safeguards administered by NSF.

RECORD ACCESS PROCEDURES:

Follow the Requesting Access to Records procedures found at 45 CFR part 613.

CONTESTING RECORD PROCEDURES:

Follow the procedures found at 45 CFR part 613.

NOTIFICATION PROCEDURES:

Follow the Requesting Access to Records procedures found at 45 CFR part 613.

EXEMPTIONS PROMULGATED FOR THE SYSTEM:

None.

HISTORY:

81 FR 37645 (June 10, 2016); 72 FR 46520 (Aug. 20, 2007); 62 FR 59895 (Nov. 5, 1997).

NSF-65

SYSTEM NAME AND NUMBER:

NSF Electronic Payment File, NSF-65.

SECURITY CLASSIFICATION:

Unclassified.

SYSTEM LOCATION:

National Science Foundation (NSF) headquarters, Virginia.

SYSTEM MANAGER(S):

Director, Division of Financial Management, NSF headquarters, Virginia.

AUTHORITY FOR MAINTENANCE OF THE SYSTEM:

The Debt Collection Improvement Act of 1996, Public Law 104-134, and the Payment Integrity Information Act of 2019, Public Law 116-117; 31 U.S.C. 7701.

PURPOSE(S) OF THE SYSTEM:

This system enables NSF to comply with the mandatory electronic payment provisions of the Debt Improvement Collection Act of 1996 and to ensure appropriate electronic payments.

CATEGORIES OF INDIVIDUALS COVERED BY THE SYSTEM:

Employees of NSF, former employees, individual grantees or vendors, or other individuals who will or do receive electronic payment from NSF for goods and services or pursuant to grant funding.

CATEGORIES OF RECORDS IN THE SYSTEM:

Name, address, Social Security Number, and payee banking information.

RECORD SOURCE CATEGORIES:

Information is obtained from individuals or payees.

ROUTINE USES OF RECORDS MAINTAINED IN THE SYSTEM, INCLUDING CATEGORIES OF USERS AND THE PURPOSES OF SUCH USES:

The following NSF standard routine uses apply:

1. Members of Congress. Information from a system may be disclosed to congressional offices in response to inquiries from the congressional offices made at the request of the individual to whom the record pertains.

2. Freedom of Information Act/Privacy Act Compliance. Information from a system may be disclosed to the Department of Justice or the Office of Management and Budget in order to obtain advice regarding NSF's obligations under the Freedom of Information Act and the Privacy Act.

3. Counsel. Information from a system may be disclosed to NSF's legal representatives, including the Department of Justice and other outside counsel, where the agency is a party in litigation or has an interest in litigation and the information is relevant and necessary to such litigation, including when any of the following is a party to the litigation or has an interest in such litigation: (a) NSF, or any component thereof; (b) any NSF employee in his or her official capacity; (c) any NSF employee in his or her individual capacity, where the Department of Justice has agreed to, or is considering a request to, represent the employee; or (d) the United States, where NSF determines that litigation is likely to affect the agency or any of its components.

4. National Archives, General Services Administration. Information from a system may be disclosed to representatives of the General Services Administration and the National Archives and Records Administration (NARA) during the course of records management inspections conducted under the authority of 44 U.S.C. 2904 and 2906.

5. Response to an Actual or Suspected Compromise or Breach of Personally Identifiable Information. NSF may disclose information from the system to appropriate agencies, entities, and persons when: (1) NSF suspects or has confirmed that there has been a breach of the system of records; (2) NSF has determined that as a result of the suspected or confirmed breach there is a risk of harm to individuals; NSF (including its information systems, programs, and operations); the Federal Government, or national security; and (3) the disclosure made to such agencies, entities, and persons is reasonably necessary to assist in connection with NSF efforts to respond to the suspected or confirmed breach or to prevent, minimize, or remedy such harm. Furthermore, NSF may disclose information from the system to another Federal agency or Federal entity, when NSF determines that information from this system of records is reasonably necessary to assist the recipient agency or entity in: (1) Responding to a suspected or confirmed breach; or (2) preventing, minimizing, or remedying the risk of harm to individuals, the recipient agency or entity (including its information systems, programs, and operations), the Federal Government, or national security, resulting from a suspected or confirmed breach.

6. Courts. Information from a system may be disclosed to the Department of Justice or other agencies in the event of a pending court or formal administrative proceeding, when the information is relevant and necessary to that proceeding, for the purpose of representing the government, or in the course of presenting evidence, or the information may be produced to parties or counsel involved in the proceeding in the course of pre-trial discovery.

7. Contractors. Information from a system may be disclosed to contractors, agents, experts, consultants, or others performing work on a contract, service, cooperative agreement, job, or other activity for NSF and who have a need to access the information in the performance of their duties or activities for NSF.

8. Audit. Information from a system may be disclosed to government agencies and other entities authorized to perform audits, including financial and other audits, of the agency and its activities.

9. Law Enforcement. Information from a system may be disclosed, where the information indicates a violation or potential violation of civil or criminal law, including any rule, regulation or order issued pursuant thereto, to appropriate Federal, State, or local agencies responsible for investigating, prosecuting, enforcing, or implementing such statute, rule, regulation, or order.

10. Disclosure When Requesting Information. Information from a system may be disclosed to Federal, State, or local agencies which maintain civil, criminal, or other relevant enforcement information or other pertinent information, such as current licenses, if necessary, to obtain information relevant to an agency decision concerning the hiring or retention of an employee, the issuance of a security clearance, the letting of a contract, or the issuance of a license, grant, or other benefit.

11. To the news media and the public when: (1) A matter has become public knowledge, (2) the NSF Office of the Director determines that disclosure is necessary to preserve confidence in the integrity of NSF or is necessary to demonstrate the accountability of NSF's officers, employees, or individuals covered by this system, or (3) the Office of the Director determines that there exists a legitimate public interest in the disclosure of the information, except to the extent that the Office of the Director determines in any of these situations that disclosure of specific information in the context of a particular case would constitute an unwarranted invasion of personal privacy.

In addition, information may be disclosed:

12. To the U.S. Department of the Treasury for the purpose of issuing the payment directly to the financial account of the payee, for reporting income paid in accordance with reporting requirements.

13. To the U.S. Department of the Treasure when disclosure of the information is relevant to review payment and award eligibility through the Do Not Pay Working System for the purposes of identifying, preventing, or recouping improper payments to an applicant for, or recipient of, Federal funds, including funds disbursed by a state (meaning a state of the United States, the District of Columbia, a territory or possession of the United States, or a federally-recognized Indian tribe) in a state-administered, federally-funded program.

14. To financial institutions for the purpose of direct deposit.

POLICIES AND PRACTICES FOR STORAGE OF RECORDS:

Records are stored on electronic digital media.

POLICIES AND PRACTICES FOR RETRIEVAL OF RECORDS:

Records are retrieved by the payment recipient's assigned identification number in the system.

POLICIES AND PRACTICES FOR RETENTION AND DISPOSAL OF RECORDS:

Records are maintained and disposed of in accordance with National Archives and Records Administration (NARA) approved records schedules.

ADMINISTRATIVE, TECHNICAL, AND PHYSICAL SAFEGUARDS:

Records are protected by administrative, technical, and physical safeguards administered by NSF.

RECORD ACCESS PROCEDURES:

Follow the Requesting Access to Records procedures found at 45 CFR part 613.

CONTESTING RECORD PROCEDURES:

Follow the procedures found at 45 CFR part 613.

NOTIFICATION PROCEDURES:

Follow the Requesting Access to Records procedures found at 45 CFR part 613.

EXEMPTIONS PROMULGATED FOR THE SYSTEM:

None.

HISTORY:

81 FR 37645 (June 10, 2016); 72 FR 46520 (Aug. 20, 2007); 63 FR 55901 (Oct. 19, 1998).

[FR Doc. 2025-22115 Filed 12-4-25; 8:45 am]

BILLING CODE 7555-01-P